GENERAL SERVICES ADMINISTRATION

[OMB Control No. 3090-XXXX]

General Services Administration; Office of Governmentwide Policy; Information Collection; Standard Form SF-XXXX, Tangible Personal Property Report

AGENCY: Office of Governmentwide Policy, General Services Administration (GSA).

ACTION: Notice of request for comments regarding a new OMB clearance.

SUMMARY: Under the provisions of the Paperwork Reduction Act of 1995 (44 U.S.C. Chapter 35), the GSA will be submitting to the Office of Management and Budget (OMB) a request to review and approve a new information collection requirement regarding reporting personal tangible property. A request for public comments was published at 72 FR 64648, November 16, 2007. Comments were received.

GSA, on behalf of the Grants Policy Committee proposes to issue a new standard form, the Tangible Personal Property Report (SF-XXXX). We anticipate this being the final notice before the form and instructions are finalized. The general public and Federal agencies are invited to comment on the proposed final form. To view the form, go to OMB's main Web page at http://www.OMB.gov and click on the “Grants Management,” then “Forms” then Proposed Government-Wide Standard Grants Reporting Forms Links.

Public comments are particularly invited on: Whether this collection of information is necessary and whether it will have practical utility; whether our estimate of the public burden of this collection of information is accurate, and based on valid assumptions and methodology; and ways to enhance the quality, utility, and clarity of the information to be collected.

DATES: Submit comments on or before: December 15, 2008.

FOR FURTHER INFORMATION CONTACT: Michael Nelson, Chair, Post-Award Workgroup; telephone 202-482-4538; fax 202-482-1844; e-mail Michael.Nelson@noaa.gov; mailing address 1401 Constitution Avenue, NW., Room 6054, Washington, DC 20230.

ADDRESSES: Submit comments regarding this burden estimate or any other aspect of this collection of information, including suggestions for reducing this burden to GSA Desk Officer, OMB, Room 10236, NEOB, Washington, DC 20503, and a copy to the Regulatory Secretariat (VPR), General Services Administration, Room 4041, 1800 F Street, NW., Washington, DC 20405. Please cite OMB Control No. 3090-XXXX, Tangible Personal Property Report, in all correspondence.

SUPPLEMENTARY INFORMATION:

A. Purpose

GSA, on behalf of the Federal Grants Streamlining Initiative, proposes to issue a new standard form, the Tangible Personal Property Report (SF-XXXX). The SF-XXXX includes a cover page, an Annual Report attachment, a Final Report attachment, a Disposition/Request Report attachment and a Supplemental Sheet to provide detailed item information. The purpose of this new form is to provide a standard form for assistance recipients to use when they are required to provide a Federal agency with information related to federally owned property, or equipment and supplies (tangible personal property) acquired with assistance award funds. The form does not create any new reporting requirements. It does establish a standard annual reporting date of September 30 to be used if an award does not specify an annual reporting date. The standard form will replace any agency unique forms currently in use to allow uniformity of collection and to support future electronic submission of information.

Background

On November 16, 2007, GSA, on behalf of the Federal Grants Streamlining Initiative, announced in the Federal Register its intent to issue a new standard form, the Tangible Personal Property Report (SF-XXXX) (72 FR 64648).

Public Law 106-107 required OMB to direct, coordinate, and assist Executive Branch departments and agencies in establishing an interagency process to streamline and simplify Federal financial assistance procedures for non-Federal entities. The law also required executive agencies to develop, submit to the Congress, and implement a plan to achieve streamlined and simplified procedures.

Twenty-six Executive Branch agencies jointly submitted a plan to the Congress in May 2001, as the Act required. The plan described the interagency process through which the agencies would review current policies and practices, and seek to streamline and simplify them. The process involved interagency work groups under the auspices of the Grants Management Committee of the Chief Financial Officers Council. The plan also identified substantive areas in which the interagency work groups had begun their review.

One of the substantive areas that the agencies identified in the plan was a need to streamline and simplify Federal grant reporting requirements and procedures and associated business processes to reduce unnecessary burdens on recipients and to improve the timeliness, completeness and quality of the information collected.

Under the standards for management and disposition of federally owned property, equipment and supplies (tangible personal property) in 2 CFR part 215, the “Uniform Administrative Requirements for Grants and Agreements With Institutions of Higher Education, Hospitals, and Other Non-Profit Organizations”, and the “Uniform Administrative Requirements for Grants and Agreements with State and Local Governments”, codified by Federal agencies at 53 FR 8048 (March 11, 1988), recipients may be required to provide Federal agencies with information concerning property in their custody annually, at award closeout, or when the property is no longer needed.

During the public consultation process mandated by Public Law 106-107, recipients suggested the need for a standard form to help them submit appropriate property information when required. The Public Law 106-107 Post Award Reports Subgroup developed the Tangible Personal Property Report (SF-XXXX) for submission of required data in the situations outlined in the Table below:

For . . . | A recipient must . . . | When . . . | Under . . .
Federally owned equipment | Submit an inventory listing the equipment | Annually, with information accurate as of 30 September, unless the award specifies a different date | 2 CFR 215.33(a)(1); A-102, _.32(f)(2).
| Request Federal agency authorization | It wants to use the equipment on other activities not sponsored by the Federal Government | 2 CFR 215.34(d).
| Notify the Federal awarding agency | Immediately upon finding equipment is lost, damaged, or stolen | 2 CFR 215.34(f)(4).
| Request disposition instructions | The equipment is no longer needed | 2 CFR 215.33(a)(1); A-102, _.32(f)(3).
|  | Upon completion of the award | 2 CFR 215.33(a)(1) and 2 CFR 215.71(f); A-102, _.50(b)(5).
Grantee-acquired equipment in which the Federal Government retains an interest | Obtain Federal awarding agency approval | Acquiring replacement equipment, before: (1) using the current equipment as trade-in; or (2) selling it and using the proceeds to offset the costs of the replacement equipment | 2 CFR 215.34(e); A-102, _.32(c)(4).
| Compensate the original Federal awarding agency or its successor | Equipment has a per unit fair market value of greater than $5,000 and the grantee no longer needs the equipment for Federally supported activities but will retain the equipment for other uses | 2 CFR 215.34(g); A-102, _.32(e)(2).
| Request disposition instructions | Grantee no longer needs the equipment for any purpose | 2 CFR 215.34(g).
| Sell the equipment and reimburse the Federal awarding agency for the Federal share | Equipment has a per unit fair market value of greater than $5,000 and the recipient no longer needs the equipment for any purpose and requested disposition instructions, and either was instructed to sell the equipment or received no instructions within 120 days | 2 CFR 215.34(g)(1); A-102, _.32(e)(2).
| Account for the equipment | Upon completion of the award, when the awarding agency has reserved the right to transfer title to the Federal Government or a third party | 2 CFR 215.71(f) and 2 CFR 215.34(g)(4)(ii).
Supplies | Compensate the Federal Government for its share | It has a residual inventory of unused supplies exceeding $5,000 in aggregate value at the end of a project or program that are not needed for other Federally supported activities | 2 CFR 215.35(a); A-102, _.33(b).
Note: Citations listed in this table for OMB Circular A-102 refer to each agency's implementing regulations. The underscore is where each agency's individual CFR location would be inserted. Citations for 2 CFR 215 are from OMB Circular A-110 which has been relocated to 2 CFR, Part 215. For further information on the Circulars, please refer to http://www.whitehouse.gov/omb/grants/attach.html.

Comments on 2007 Federal Register Notice and Responses

Comment: Requested clarification as to whether the new report would take precedence over specific reporting requirements in the provisions of their awards.

Response: The (SF-XXXX) will replace any agency unique forms currently in use, but it does not create any new reporting requirements. The provisions of individual awards still apply.

B. Annual Reporting Burden

This report will be used to collect information related to tangible personal property (and supplies) when required by a Federal financial assistance award. Since this form will primarily be used for reporting under grants, and GSA does not award grants, we are providing a burden estimate for one respondent.

Respondents: Federal agencies and their assistance recipients.

Estimated Total Annual Burden Hours: 2.75.

Estimated Cost: There is no expected cost to the respondents or to GSA.

Instrument | Number of respondents | Number of responses per respondent | Average burden hours per response | Total burden hours
Tangible Personal Property Report (SF-XXXX) | 1 | 1 | 0.166666667 | 0.166666667
Annual Report: Attachment to SF-XXXX | 1 | 1 | 0.75 | 0.75
Final Report: Attachment to SF-XXXX | 1 | 1 | 0.75 | 0.75
Disposition Request/Report: Attachment to SF-XXXX | 1 | 1 | 0.75 | 0.75
Tangible Personal Property Report Supplemental Sheet (SF-XXXX-S) | 1 | 1 | 0.333333333 | 0.333333333
Total |  |  |  | 2.75

Obtaining Copies of Proposals: Requesters may obtain a copy of the information collection documents from the General Services Administration, Regulatory Secretariat (VPR), 1800 F Street, NW., Room 4041, Washington, DC 20405, telephone (202) 208-4755. Please cite OMB Control No. 3090-XXXX, Tangible Personal Property Report, in all correspondence.

Dated: October 17, 2008.
Casey Coleman,
Chief Information Officer.

[FR Doc. E8-26994 Filed 11-12-08; 8:45 am]

BILLING CODE 6820-RH-P